DEPARTMENT OF THE INTERIOR

Bureau of Indian Affairs

[2231A2100DD/AAKC001030/A0A501010.999900]

Indian Gaming; Extension of Tribal-State Class III Gaming Compacts in California

AGENCY: Bureau of Indian Affairs, Interior.

ACTION: Notice.

SUMMARY: This notice announces the extension of the Class III gaming compacts between several tribes in California and the State of California.

DATES: The extension takes effect on June 30, 2022.

FOR FURTHER INFORMATION CONTACT: Ms. Paula L. Hart, Director, Office of Indian Gaming, Office of the Assistant Secretary—Indian Affairs, Washington, DC 20240, (202) 219-4066.

SUPPLEMENTARY INFORMATION: An extension to an existing Tribal-State Class III gaming compact does not require approval by the Secretary if the extension does not modify any other terms of the compact. 25 CFR 293.5. The following tribes and the State of California have reached an agreement to extend the expiration date of their existing Tribal-State Class III gaming compacts to December 31, 2023: the Alturas Indian Rancheria, California; the Augustine Band of Cahuilla Indians, California; the Bear River Band of the Rohnerville Rancheria, California; the Berry Creek Rancheria of Maidu Indians of California; the Big Sandy Rancheria of Western Mono Indians of California; the Bishop Paiute Tribe; the Blue Lake Rancheria; the Cachil Dehe Band of Wintun Indians of the Colusa Indian Community of the Colusa Rancheria, California; the Cahto Tribe of the Laytonville Rancheria; the Cahuilla Band of Indians; the Campo Band of Diegueno Mission Indians of the Campo Indian Reservation, California; the Chemehuevi Indian Tribe of the Chemehuevi Reservation, California; the Cher-Ae Heights Indian Community of the Trinidad Rancheria, California; the Chicken Ranch Rancheria of Me-Wuk Indians of California; the Elem Indian Colony of Pomo Indians of the Sulphur Bank Rancheria, California; the Ewiiaapaayp Band of Kumeyaay Indians, California; the Hopland Band of Pomo Indians, California; the Manchester Band of Pomo Indians of the Manchester Rancheria, California; the Middletown Rancheria of Pomo Indians of California; the Pauma Band of Luiseno Mission Indians of the Pauma & Yuima Reservation, California; the Picayune Rancheria of Chukchansi Indians of California; the Pit River Tribe, California; the Redding Rancheria, California; the Resighini Rancheria, California; the Robinson Rancheria; the Santa Rosa Indian Community of the Santa Rosa Rancheria, California; the Sherwood Valley Rancheria of Pomo Indians of California; the Soboba Band of Luiseno Indians, California; and the Table Mountain Rancheria. This publication provides notice of the new expiration date of the compacts.

Bryan Newland,
Assistant Secretary—Indian Affairs.

[FR Doc. 2022-14054 Filed 6-29-22; 8:45 am]

BILLING CODE 4337-15-P